DEPARTMENT OF ENERGY

Federal Energy Regulatory Commission

[Project No. 7477-013]

SilverStreet Hydro, LLC; Ampersand Olcott Harbor Hydro, LLC; Notice of Transfer of Exemption

1. By letter filed August 26, 2013, Ampersand Olcott Harbor Hydro, LLC informed the Commission that the exemption from licensing for the Burt Dam Project, FERC No. 9403, originally issued May 15, 1986,¹ has been transferred from SilverStreet Hydro, LLC to Ampersand Olcott Harbor Hydro, LLC, effective August 9, 2013. The project is located on the Eighteenmile Creek in Niagara County, New York. The transfer of an exemption does not require Commission approval.

¹ 35 FERC ¶ 62,329, Order Granting Exemption from Licensing (5 MW or Less).

2. Ampersand Olcott Harbor Hydro, LLC located at 717 Atlantic Avenue, Suite 1A, Boston, MA 02111, is now the exemptee of the Burt Dam Project, FERC No. 7477.

Dated: September 10, 2013.
Kimberly D. Bose,
Secretary.

[FR Doc. 2013-22435 Filed 9-13-13; 8:45 am]

BILLING CODE 6717-01-P